DEPARTMENT OF COMMERCE

Foreign-Trade Zones Board

[S-161-2022]

Approval of Subzone Status; BLG Logistics of Alabama LLC, Northport, Alabama

On September 7, 2022, the Executive Secretary of the Foreign-Trade Zones (FTZ) Board docketed an application submitted by the City of Birmingham, grantee of FTZ 98, requesting subzone status subject to the existing activation limit of FTZ 98, on behalf of BLG Logistics of Alabama LLC, in Northport, Alabama.

The application was processed in accordance with the FTZ Act and Regulations, including notice in the Federal Register inviting public comment (87 FR 55993, September 13, 2022). The FTZ staff examiner reviewed the application and determined that it meets the criteria for approval. Pursuant to the authority delegated to the FTZ Board Executive Secretary (15 CFR 400.36(f)), the application to establish Subzone 98H was approved on October 27, 2022, subject to the FTZ Act and the Board's regulations, including Section 400.13, and further subject to FTZ 98's 612-acre activation limit.

Dated: October 27, 2022.
Andrew McGilvray,
Executive Secretary.

[FR Doc. 2022-23809 Filed 11-1-22; 8:45 am]

BILLING CODE 3510-DS-P